DEPARTMENT OF TRANSPORTATION

Federal Aviation Administration

Federal Aviation Administration (FAA) Sponsored Technical Standard Order (TSO) National Workshop

AGENCY: Federal Aviation Administration (DOT).

ACTION: Notice of national public workshop.

SUMMARY: This FAA sponsored workshop will bring together individuals from FAA Headquarters, Certification Directorates, including the Aircraft Certification Offices, Industry and other Aviation Authorities including the European Aviation Safety Agency (EASA), and Transport Canada Civil Aviation (TCCA) for a collaborative discussion about TSO/European (E)TSO programs.

The workshop will include presentations on:

• The Technical Standard Order (TSO) and European Technical Standard Order (ETSO) programs, which will include discussions on:

• An overview of the data from the TSOA Holder evaluations;

• Survey results on the TSO program;

• Gaps in the TSO/ETSO programs;

• Future Initiatives.

Who should attend:

• Aviation Authorities who work with TSOs/ETSOs.

• Industry participants who work with TSOs/ETSOs, including:

• Avionics manufacturers;

• TSO/ETSO installers (i.e. Original Equipment Manufacturers (OEMs) and Supplemental Type Certificate (STC) holders).

DATES:

2009—Workshop Schedule
Tuesday | September 1 | Aviation Authorities Only (FAA, EASA, TCCA) 8:30 a.m.-4 p.m.
Wednesday | September 2 | Open to all 8:30 a.m.-4 p.m.
Thursday | September 3 | Aviation Authorities Only (FAA, EASA, TCCA) 8:30 a.m.-4 p.m.

ADDRESSES: The workshop will be held at the FAA Southern Regional Office, located at 1701 Columbia Ave., College Park, GA 30337.

Workshop Information: Attendance at the conference will be limited to 350 participants. There is no charge for this workshop, however all participants must be registered in advance, no later than August 7, 2009. Agenda, Hotel, and Registration Information will be posted at: http://www.faa.gov/aircraft/air_cert/design_approvals/tso/. You may e-mail us at: 9-AWA-AVS-TSO-Workshop@faa.gov if you have questions.

Issued in Washington, DC, July 9, 2009.
Susan J. M. Cabler,
Assistant Manager, Aircraft Engineering Division, Aircraft Certification Service.

[FR Doc. E9-16809 Filed 7-15-09; 8:45 am]

BILLING CODE 4910-13-M